DEPARTMENT OF HOUSING AND URBAN DEVELOPMENT

[Docket No. FR-4780-N-01]

Notice of Funding Availability (NOFA) for the Research on the Socio-Economic Change in Cities, Fiscal Year 2002

AGENCY: Office of Policy Development and Research, HUD.

ACTION: Notice of funding availability

SUMMARY: Purpose of the Program. To fund empirical research projects on trends in urban areas, that is, social, economic, demographic, and fiscal change in cities. Research grants of up to $40,000 each would allow HUD to commission a variety of in-depth and high-quality research projects. For example, the release of the Census 2000 long-form data presents an excellent opportunity to inform us on the long-run dynamics of population, housing, income, and transportation in urban areas. Research using other current data sets, such as the County Business Patterns Special Extracts, FBI Crime Statistics, or Building Permits Data found in the State of the Cities Data Systems ¹, or concerning other topics such as the fiscal condition of cities, crime, poverty, or economic development would also be encouraged. These research projects would provide HUD with a basic understanding of how cities are changing, what factors are driving change, and the impact of public policy on change.

¹ This site (http://socds.huduser.org//index.html) specializes in data about cities and metropolitan areas. Some of the data is available at other sites, but here it is in a particularly useful interface. The available data include: population data from the 1970, 1980, 1990, and 2000 Censuses; data on employed residents from the Current Employment Statistics; data on jobs from and business establishments from special extracts of the County Business Patterns; data from the FBI's Uniform Crime Report; and data on permits for residential construction from the Census Bureau's Building Permits Survey.

Available Funds. $300,000 from HUD's FY 2002 research and technology appropriation. HUD anticipates funding seven to ten studies on these topics; studies will be funded through cooperative agreements, up to a maximum of $40,000.

Eligible Applicants. Academic and not-for-profit institutions located in the U.S., state and local governments, and federally recognized Indian tribes are eligible to apply. For-profit businesses also are eligible; however, they are not allowed to earn a fee (i.e., no profit can be made from the project).

Application Deadline. May 27, 2003.

Match. None required.

Additional Information:

I. Application Due Date, Further Information, and Technical Assistance

Application Due Date. Your completed application is due May 27, 2003.

Address for Submitting Applications. All applications must be either mailed or sent via overnight/express mail delivery, addressed to: Department of Housing and Urban Development, Economic Development and Public Finance Division, Office of Policy Development and Research, 451 Seventh Street, SW., Room 8234, Washington, DC 20410.

Application Submission Requirements. New Security Procedures. HUD has implemented new security procedures that affect application submission procedures. Please read the following instructions carefully and completely. HUD will not accept hand-delivered applications. Applications may be mailed using the United States Postal Service (USPS) or may be shipped via one of the following delivery services: DHL, Falcon Carrier, FedEx, United Parcel Service (UPS), or United States Postal Service Express Mail. No other delivery services are permitted into HUD Headquarters without escort. You must, therefore, use one of these carriers.

Mailed Applications. Your application will be considered timely filed if your application is postmarked on or before 12 midnight of the application due date and received by the designated HUD office on or within fifteen (15) calendar days of the application due date. All applicants must obtain and save a Certificate of Mailing showing the date when the application was submitted to the USPS. The Certificate of Mailing (USPS Form 3817) will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, you must use either USPS express mail or one of four carrier services that do business with HUD Headquarters regularly. These services are DHL, Falcon Carrier, FedEx, and UPS. Delivery by these services must be made during HUD Headquarters business hours, between 8:30 AM and 5:30 PM Eastern time, Monday through Friday.

Other Transmission Methods. Only applications submitted via mail or one of the express carrier services identified above will be accepted. Facsimile, email, or other types of transmission are not acceptable.

FOR FURTHER INFORMATION CONTACT: You may contact: Dr. Alastair McFarlane, Department of Housing and Urban Development, Economic Development and Public Finance Division, Office of Policy Development and Research, 451 Seventh Street, SW., Room 8234, Washington, DC 20410, telephone (202) 708-0426, extension 5901, or Mr. Patrick Tewey, Grants Officer, (202) 708-1796, extension 4098 (these are not toll-free numbers). Hearing- and speech-impaired persons may access the above telephone number via TTY by calling the toll-free Federal Information Relay Service at 1-800-877-8339.

II. Amount Allocated

Approximately $ 300,000 from HUD's FY 2002 Research and Technology appropriation will be available to fund research study proposals in FY 2002. Cooperative agreements will be awarded on a competitive basis according to the Rating Factors described in Section VII (D). HUD anticipates awarding seven to ten cooperative agreements ranging up to $40,000 each. Applications exceeding this amount (unless the excess is provided through cost-sharing) will be deemed to be non-responsive.

III. Program Description and Eligible Activities

(A) Program Description: Background

Identifying the extent and dimension of change occurring in American cities is an important part of HUD's mission. A better understanding of urban dynamics would support the pursuit of all of HUD's Strategic Goals (see Fiscal Year 2002 Annual Performance Plan, U.S. Department of Housing and Urban Development, May 2001), including Goal 1, “Increase the availability of decent, safe, and affordable housing in American communities,” and Goal 4, “Improve community quality of life and economic vitality.” Fundamental social science research on urban dynamics is relevant to housing and urban policy for at least three major reasons. First, an understanding of urban socio-economic factors, such as immigration, is critical in the evaluation of the impact of existing urban policy. Second, such research would allow HUD more accurately to predict the impact of a proposed rule or program. Third, innovative research may reveal issues, about which little is known currently, that merit the attention of the Department. To accomplish these objectives, studies that utilize recently released data, such as the Census 2000 long-form data or other Census products such as County Business Patterns, are needed.

(B) Eligible Activities: Topics in Urban Research

This part lists major topics and questions on which HUD seeks information. HUD is interested in high-quality research that offers a unique contribution to the literature on urban economic and social change. The proposals may include descriptive studies, analytical studies, or both. These studies may identify or measure the factors associated with particular outcomes and the underlying causes of particular outcomes. The impact of existing policies may be described and analyzed. The proposals should highlight the policy implications of the potential findings of the proposed research, particularly with respect to policies that have been successful in urban areas. The methodology to be applied to the studies may include statistical techniques, econometric estimation, application of geographic information systems (GIS) techniques, case studies, a critical review of the present state of knowledge, and meta-analysis of existing studies. In each case, the methodology must reflect the state-of-the-art in the respective discipline. The final report for each empirical study will include a succinct discussion of the scholarly literature related to the issue being analyzed; this literature review will provide background for the methodology of the proposed study and a useful context for identifying the analytical and policy contributions of the study. The Department is interested in a wide variety of research topics. These topics are:

(1) Urban Economy

HUD is interested in research that would help explain the necessary conditions for a thriving urban economy as well as which local and federal policies encourage balanced or sustainable growth. Such research could support, for example, Strategic Objective 4.1, “The number, quality, and accessibility of jobs increase in urban * * * communities,” and Strategic Objective 4.2, “Economic conditions in distressed communities improve.” Possible topics include but are not limited to the following questions:

• Economic development: Are there any particular industries that are key to economic development? What are the implications of different types of agglomeration economies (i.e., scale economies, economies of localization) for urban growth? What is the role of tax incentives in economic development? Are there geographic spillovers of economic development? To what extent does growth in the suburbs lead to growth in center cities? What is the impact of economic development on poverty? What role have faith-based institutions played in effective community development initiatives?

• Economic change: What have been the trends in employment, income, and wealth in center cities?

• Labor markets: What does recent data tell us about the significance of spatial mismatch between jobs and residents? What are the trends in unemployment among youth in cities? What is the impact of job growth on unemployment in cities? What has been the impact of welfare reform, urban development, and other fiscal policies on urban labor markets?

• Housing and mortgage markets: What is the impact of economic growth and other urban trends on the supply of affordable housing? What is the impact of gentrification on the economic welfare of the pre-existing residents of a neighborhood? What is the relationship between housing tenure and other variables such as employment status? What have been the dynamics (construction, rehabilitation, and transformation) of the rental housing stock of cities? What are the long- and short-run relationships between income growth and rents? What is the recent evidence on the causes and consequences of homelessness? What has been the impact on urban economies of the substantial increase in affordable lending during the 1990's? What problems do inner-city residents face in obtaining financing? What role do mainstream lenders play in inner cities?

• Urban Public Finance: What is the extent of the fiscal disparities among urban and suburban local governments? What is the impact of fiscal conditions on economic growth and vice-versa? What are some of the determinants of fiscal health? How have some of the fiscal innovations of the last decades affected the public finances of cities?

(2) Urban Demographics

HUD would be interested in research that reveals both the characteristics of cities' populations as well as the spatial patterns of real estate development.

• Population characteristics: How has the proportion of elderly, immigrants, minorities, and female-headed households changed over the last ten years and why? What are the demographics of population growth, or decline, in cities? What would be the projections of population growth in cities based on observed trends?

• Urban growth: What is the role of migration (both foreign and domestic) in the growth of urban centers? What are the most recent causes and consequences of suburbanization? To what extent are minorities relocating to suburban areas and why? What is the degree of interdependence between suburbs and cities?

• Patterns of population density: What has been the change in the spatial distribution of population and why? Is there a significant relationship between the density of population and other variables such as housing affordability, economic growth, or fiscal health? What is the role of subcenters in the urban economy?

(3) Urban Issues

HUD is interested in research concerning social and economic issues that are unique to urban areas as well as social problems that are particularly concentrated in urban areas.

• Education: Which policies have been successful in improving inner-city schools? What is the extent of spending inequalities in education? What has been the trend in education levels required for employment in cities? What is the impact of education on poverty? What role do colleges and universities play in the economic development of cities?

• Crime: What are some of the social and economic variables that appear to influence crime in cities? What is the cost of crime in terms of metropolitan and urban growth? What are the relative impacts of different social and criminal justice policies on crime rates? How are property crime and violent crime different with respect to all of the above questions? How is crime in cities different from crime in the suburbs?

• Poverty: How has the income distribution of urban centers changed? What have been the recent trends in urban poverty, especially in the concentration of poverty in cities? What are the explanations for these changes in urban poverty? What is the trend of gaps between inner city-suburban social indicators?

• Transportation and commuting patterns: What have been the recent trends in commuting times and distances in cities? How are these trends related to mode of transport and automobile ownership? How are trends in transportation affected by characteristics of the urban area? What is the impact of traffic congestion on decentralization?

Many of these research topics could be addressed using the 1990 and 2000 Census data (short- and long-forms).² Longer-term comparisons may be made using census data from before 1990 or other socioeconomic databases such as the Panel Study of Income Dynamics. The Census of Population and Housing data may be supplemented with other databases from the Census such as County Business Patterns data, the American Housing Survey data (including the geocoded version of that database), or other national or local databases.

² Applicants should take note of changes in minority categorization, metropolitan area specification, etc. that became effective with the 2000 Census.

IV. Program Threshold Requirements

(A) Eligible Applicants

Academic and not-for-profit institutions located in the U.S., state and local governments, and federally recognized Indian tribes are eligible to apply under this NOFA. For-profit firms also are eligible; however, they are not allowed to earn a fee (i.e., no profit can be made from the project). Federal agencies and federal employees are not eligible to submit applications.

A particular author or group of co-authors may submit separate research proposals on more than one topic, but no more than one award will be made to any one such author or group of co-authors.

You may address more than one of the technical study topic areas within your proposal or submit separate applications for different topic areas. Projects need not address all of the objectives within a given topic area. While you will not be penalized for not addressing all of the specific objectives for a given topic area, if two applications for technical study in a given topic have equal scores, HUD will select the applicant whose project addresses the most objectives.

(B) Period of Performance

The period of performance may not exceed 18 months from the time of award.

(C) Existing Resources

HUD technical studies funds may not replace existing resources dedicated to any ongoing project.

(D) Protection of Human Subjects

Human research subjects must be protected from research risks in conformance with Federal Policy for the Protection of Human Subjects, codified by HUD at 24 CFR part 60.

(E) Compliance With Fair Housing and Civil Rights Laws

(1) With the exception of federally recognized Indian tribes and their instrumentalities, all applicants and their sub-recipients must comply with all Fair Housing and Civil Rights laws, statutes, regulations, and Executive Orders as enumerated in 24 CFR 5.105(a). If you are a federally recognized Indian tribe, you must comply with the non-discrimination provisions enumerated at 24 CFR 1003.601, as applicable.

(2) If you, the applicant:

• Have been charged with a systemic violation of the Fair Housing Act alleging ongoing discrimination;

• Are a defendant in a Fair Housing Act lawsuit filed by the Department of Justice alleging an on-going pattern or practice of discrimination; or

• Have received a letter of non-compliance findings under Title VI, Section 504, or Section 109, and if the charge, lawsuit, or letter of findings has not been resolved to HUD's satisfaction before the application deadline stated in this NOFA, you may not apply for assistance under this NOFA. HUD will not rate and rank your application. HUD's decision regarding whether a charge, lawsuit, or a letter of findings has been satisfactorily resolved will be based upon whether appropriate actions have been taken to address allegations of on-going discrimination in the policies or practices involved in the charge, lawsuit, or letter of findings.

(F) Conducting Business In Accordance With Core Values and Ethical Standards

Entities subject to 24 CFR Parts 84 and 85 (most non-profit organizations and state, local and tribal governments or government agencies or instrumentalities who receive federal awards of financial assistance) are required to develop and maintain a written code of conduct (see Sections 84.42 and 85.36(b)(3)). Consistent with regulations governing specific programs, your code of conduct must: Prohibit real and apparent conflicts of interest that may arise among officers, employees, or agents; prohibit the solicitation and acceptance of gifts or gratuities by your officers, employees, and agents for their personal benefit in excess of minimal value; and, outline administrative and disciplinary actions available to remedy violations of such standards. If awarded assistance under this NOFA, you will be required, prior to entering into a cooperative agreement with HUD, to submit a copy of your code of conduct and describe the methods you will use to ensure that all officers, employees, and agents of your organization are aware of your code of conduct.

(G) Ensuring the Participation of Small Businesses, Small Disadvantaged Businesses, and Women-Owned Businesses

HUD is committed to ensuring that small businesses, small disadvantaged businesses, and women-owned businesses participate fully in HUD's direct contracting and in contracting opportunities generated by HUD cooperative agreement funds. Too often, these businesses still experience difficulty accessing information and successfully bidding on federal contracts. State, local, and tribal governments are required by 24 CFR 85.36(e) and non-profit recipients of assistance by 24 CFR 84.44(b), to take all necessary affirmative steps in contracting for purchase of goods or services to assure that minority firms, women's business enterprises, and labor surplus area firms are used when possible.

(H) Additional Non-Discrimination Requirements

You, the applicant, and your sub-recipients must comply with the Americans with Disabilities Act of 1990 (42 U.S.C. 1201 et seq.) and title IX of the Education Amendments Act of 1972 (20 U.S.C. 1681 et seq.)

V. Application Submission Requirements

(A) Applicant Information

Your application must contain the items listed in this Section V, as follows:

(1) A transmittal letter (limited to one page) which identifies the purpose for which the technical study program funds are requested, the dollar amount requested, and the applicant or applicants submitting the application. If two or more organizations are working together on the project, a primary applicant must be designated;

(2) Checklist and Submission Table of Contents (see Appendix);

(3) Name of primary applicant and any sub-recipients (such as consortium associates, partners, subcontractors, joint venture participants, or others contributing resources to your project), with contact information (i.e., name, mailing address, and telephone number of principal contact person) for each;

(4) An abstract (limited to two pages) containing the following information: The project title, the names and affiliations of all investigators, and a summary of the research problem and study design as described in the project narrative;

(5) A project narrative (limited to a total of 25 pages) which discusses your qualifications and your study plan and addresses the following topics, which correspond to the Rating Factors for award of funding as stated in Section VI (D), below. The narrative statement must be organized in sections numbered in accordance with this outline.

a. Applicant and organizational qualifications, including qualifications of the principal investigator and key personnel, experience in managing similar projects, and past performance in managing project funds. See the discussion of Rating Factor 1 in Section VI (D).

b. The problem to be addressed. See Rating Factor 2.

c. Technical study plan, including study design, quality assurance mechanisms, and project management plan. See Rating Factor 3. Also see discussion of management plan in Section VI (b).

d. Statement of non-HUD resources to be applied, if any. See Rating Factor 4.

e. Statement on coordination, self-sufficiency, and sustainability of your work. See Rating Factor 5. Any pages in excess of the 25-page limit will not be read;

(6) Discussion of desired HUD resources, if applicable. See Section IV (C).

(7) You may provide attachments, appendices, bibliography, or other relevant materials that support your project narrative, but these must not exceed 20 pages in the aggregate. Any pages in excess of the 20 page limit will not be read;

(8) The resumes of the principal investigator and other key personnel. Resumes shall not exceed three pages each and are limited to information that is relevant in assessing the qualifications of key personnel to conduct and/or manage the proposed technical studies; and

(9) Indirect Cost Rate Agreement, if available. Applicants that have established indirect cost rate agreements shall provide a copy of the agreement from their cognizant federal agency. The cognizant agency is the federal agency responsible for negotiating and approving indirect cost rates for the grantee. A grantee that has not previously established an indirect cost rate with a federal agency shall submit its initial indirect cost proposal immediately after the grantee is advised that an award will be made.

(B) Standard Forms, Certifications and Assurances

You, the applicant, are required to submit signed copies of the following forms, certifications, and assurances:

• Application for Federal Assistance (HUD-424);

• Applicant Assurances and Certifications (HUD-424-B);

• Detailed Budget (SF-424-CB);

• Detailed Budget Worksheet (SF-424-CBW); Note that the thoroughness, clarity, and coherence of the budget information that you provide on the Detailed Budget Worksheet will be evaluated under Rating Factor 4. You must thoroughly document and justify all budget categories and costs and all major tasks, for yourself and any sub-recipients contributing resources to the project. Your budget should include the cost of travel to Washington for at least one member of the project team to meet with HUD representatives or participate in a research seminar or symposium;

• If required, the Disclosure Form Regarding Lobbying (SF-LLL). See the first paragraph under “certifications” on page 2 of form HUD-424;

• Disclosure/Update Report (HUD-2880);

• Acknowledgment of Application Receipt (HUD-2993); and

• Client Comments and Suggestions (HUD 2994).

Copies of these standard forms, with instructions as applicable, are appended to this NOFA.

VI. Application Selection Process

(A) Program Threshold Requirements

HUD will review your application to determine whether it meets all of the program threshold requirements described in Section V above. Only applications that meet all of the threshold requirements will be eligible to be rated and ranked.

(B) Rating

Applications that meet all of the threshold requirements will be eligible to be scored and ranked, based on the total number of points allocated for each of the Rating Factors described below. Your application must receive a total score of at least 70 points to remain in consideration for funding.

(C) Ranking and Selection

Selection of award recipients will be based on the ranking of aggregate scores, within the limits of funding availability. In selecting award recipients, HUD will award the highest ranked application in each of the research topics listed in paragraph III (B) above. HUD will then select the second highest ranked application in each research topic and continue this process as long as funding remains available. Awards may be made to two or more recipients proposing work on a particular topic. In order to be funded, applicants must receive a minimum score of 70 points.

(D) Rating Factors

The factors for rating and ranking applicants, and maximum points for each factor, are provided below. The maximum number of points to be awarded is 100.

Rating Factor 1: Capacity of the Applicant and Relevant Organizational Experience (30 Points)

Points will be awarded under the following three sub-factors, based on the extent to which your proposal indicates that you have the ability and organizational resources necessary to implement successfully your proposed activities in a timely manner. The rating of you, the “applicant,” will include any sub-recipients that will contribute resources to the project. In rating this factor HUD will consider and award points based on the extent to which your application demonstrates:

(a) That the principal investigator and key personnel are capable and qualified to accomplish the proposed research, based on their education/training and previous completed research (15 points). Qualifications to carry out the proposed study will be evaluated based on the academic background of personnel, relevant publications, and recent (within the past 10 years) research experience relevant to the type of work proposed. Publications and research experience are considered relevant if they required the acquisition and use of knowledge and skills that can be applied in the planning and execution of the technical study that is proposed.

(b) That the project manager(s) has demonstrated ability to manage this research, based on past performance in managing similar projects (10 points). Points will be awarded based on demonstrated ability to successfully manage your study in such areas as personnel management, project management, data management, quality control, community study involvement (if applicable), and report writing, as well as overall success in project completion (i.e., projects completed on time and within budget). You should also demonstrate that your project would have adequate administrative support, including clerical and specialized support in areas such as accounting and equipment maintenance, as relevant.

(c) That the primary applicant and any sub-recipients are capable of managing project funds, based on past performance (5 points). Points will be awarded based on the extent of demonstrated ability to account for funds appropriately and timely use of funds received either from HUD or other federal, state, or local programs, or private programs. HUD may include information at hand or available from public sources such as, but not limited to, newspapers, Inspector General or Government Accounting Office Reports or Findings, and/or hotline complaints that have been proven to have merit.

Rating Factor 2: Need/Extent of the Problem (10 Points)

Points will be awarded based on the extent to which your proposal establishes that your proposed research will address documented problems, target areas or target groups. In responding to this factor, you should document in detail how your project would make a significant contribution toward achieving some or all of HUD's stated goals and objectives for one or more of the topic areas described in Section III (B).

Rating Factor 3: Soundness of Technical Study Approach (50 Points)

Points will be awarded based on the quality of your proposed study plan, under the following four sub-factors, as described in your proposal. Specific components that will be evaluated include the following:

(a) Soundness of the study design (30 points). Describe the thoroughness and feasibility of your project and study design, and the extent to which it reflects a comprehensive understanding of the relevant technical literature. It should clearly describe how your study builds upon the current state of knowledge for your focus area. If possible, your study should be designed to address testable hypotheses, which are clearly stated. Your study design should be statistically based, with sufficient data to provide an adequate test of your stated hypotheses. The study design should be presented as a logical sequence of steps or phases, with individual tasks described for each phase. You should identify any important “decision points” in your study plan, and you should discuss plans for data management, analysis and archiving.

(b) Quality assurance mechanisms (10 points). Describe the adequacy of quality assurance mechanisms that will be integrated into your project design to ensure the validity and quality of the results. Areas to be addressed include acceptance criteria for data quality, procedures for selection of samples/sample sites, sample handling, measurement and analysis, and any standard/nonstandard quality assurance/control procedures to be followed. Documents (e.g., government reports, peer-reviewed academic literature) that provide the basis for your quality assurance mechanisms should be cited.

(c) Project management plan (8 points). The extent to which your schedule for the completion of major activities, tasks and deliverables, and your budget, confirm that there will be adequate resources (e.g., personnel, financial) to carry out your study design successfully within the proposed time frame, taking into account timing requirements stated in section IV, above.

(d) Budget Proposal (2 Points). Two points will be awarded if your budget proposal thoroughly estimates all applicable direct and indirect costs and is presented in a clear and coherent format. One point, or no points, will be awarded if your budget proposal is deficient in this regard, based on the degree of deficiency.

Rating Factor 4: Leveraging of Resources (5 Points)

You are encouraged to demonstrate that the effectiveness of HUD's funds will be increased by securing other public and/or private resources or by structuring the project in a cost-effective manner, such as integrating the project into an existing study. Resources may include funding or in-kind contributions (such as services, facilities, or equipment) allocated to the purpose(s) of your project. Staff and in-kind contributions should be given a monetary value. Larger such commitments will be awarded more points under this Rating Factor.

You should provide evidence of leveraging/partnerships by attaching to your application letters of firm commitment, memoranda of understanding, or agreements to participate from those entities identified as partners in the project efforts. Each letter of commitment, memorandum of understanding, or agreement to participate must include the organization's name, proposed level of commitment (with monetary value), and responsibilities as they relate to specific activities or tasks of your proposed program. The commitment must also be signed by an official of the organization legally able to make commitments on behalf of the organization.

Rating Factor 5: Coordination, Self-Sufficiency and Sustainability (5 Points)

(a) The extent to which you have coordinated your activities with other organizations that have or are in the process of conducting similar or related work;

(b) Evidence that your proposed study builds upon the existing body of related work and it does not significantly duplicate work that is currently being conducted, or has been conducted, by other organizations (to the extent that this can be ascertained); and

(c) The extent to which your project will help generate practical solutions that can be implemented on the local or national level for improving the economic vitality and the quality of life in cities.

(E) Negotiations; Amount To Be Awarded

After HUD has rated and ranked all applications and made selections, HUD may require, depending upon the program, that all winners participate in negotiations to determine the specific terms of the cooperative agreement and budget. HUD is not required to approve or fund all proposal activities. In cases where HUD cannot successfully conclude negotiations with a selected applicant or a selected applicant fails to provide HUD with requested information, an award will not be made to that applicant. In this instance, HUD may offer an award, and proceed with negotiations with the next-highest ranking applicant.

(F) Adjustments to Funding

(1) HUD reserves the right to fund less than the full amount requested in your application to ensure the fair distribution of the funds and that the purposes of this program are met.

(2) HUD will not fund any portion of your application that: is not eligible for funding under specific program statutory or regulatory requirements; does not meet the requirements of this NOFA; or may be duplicative of other funded programs or activities from previous years' awards or other selected applicants. Only the eligible portions of your application (including non-duplicative portions) may be funded.

(3) Purchase or lease of equipment having a per unit cost in excess of $5,000 will not be funded unless prior written approval is obtained from HUD.

(4) If funds remain after funding the highest-ranking applications, HUD may fund all or part of the next highest-ranking application in a given program. If you, the applicant, turn down an award offer, HUD will make an offer of funding to the next-highest ranking application.

(5) In the event HUD commits an error that, when corrected, would result in selection of an otherwise eligible applicant during the funding round of this NOFA, HUD may select that applicant when sufficient funds become available.

(G) Audit

Grantees/applicants that expend $300,000 or more in a year in federal awards shall have a single or program-specific audit conducted for that year in accordance with OMB Circular A-133. Grantees/applicants shall ensure that their most recent completed audit has been submitted to the federal Audit Clearinghouse for review by HUD (refer to www.harvester.census.gov/sac/). Grantees/applicants that do not have such an audit or are not subject to OMB Circular A-133 will be asked to provide a copy of their organization's most recent audit or other evidence that financial controls are in place before an award can be finalized.

VII. Cooperative Agreement Structure; Publication of Studies

The awards will be structured as cooperative agreements, in order to provide latitude to researchers to proceed independently, but with opportunity for HUD to provide comments at appropriate points in work. HUD's participation will include review and comment on the study design and draft final report and participation in a seminar on the research. If you believe that a greater extent of substantive involvement by HUD personnel in your project would be advantageous for the successful accomplishment of your research objectives, please include in your project description/narrative a discussion of the desired HUD resources and the rationale (this is item 6 in the list of application items provided in Section V (A) above). Formal commitments regarding this aspect of the cooperative agreement would then become a matter for negotiation prior to award (see Section VI (E), above).

Your management plan must provide for the following work steps to be performed by you and by HUD:

• You will submit a detailed study design, comprising identified research issue(s), a technical proposal, and methodological approach. This will be due no later than six weeks from the date of award, unless you indicate a specific rationale for a different schedule. HUD will provide comments to you on the study design;

• You will submit a draft report to HUD no later than twenty (20) weeks prior to the scheduled ending date of the project. HUD will provide comments on the draft report, which may include comments of peer reviewers engaged by HUD;

• At least one investigator will travel to Washington (or another location, as mutually agreed) to present the study, at a time to be arranged with HUD representatives, subsequent to submission of the draft final report; and

• You will submit a final report taking account of the comments.

A cost-reimbursement award based on the negotiated budget is anticipated.

A payment schedule based on the completion of project milestones will be established in negotiation. An amount equal to 20 percent of the total amount of the cooperative agreement will be withheld and paid by HUD only after the final project report has been received and accepted by HUD.

The terms and conditions of the cooperative agreement will include restrictions against the applicant's release of work products, quotation or paraphrasing from work products or disclosures of interim findings prior to 60 days after HUD acceptance of your final report except with HUD approval. Thereafter, recipients are free to publish without HUD approval. The present provisions of OMB-Circular A-110, Subpart C, and HUD regulations at 24 CFR Part 84, Subpart C shall govern the right to intellectual or intangible property developed as a result of a recipient's performance under a cooperative agreement.

VIII. Findings and Certifications

(A) Environmental Impact

This NOFA does not direct, provide for assistance or loan and mortgage insurance for, or otherwise govern or regulate, real property acquisition, disposition leasing, rehabilitation, alteration, demolition or new construction, or establish, revise or provide for standards for construction or construction materials, manufactured housing, or occupancy. Accordingly, under 24 CFR 50.19(c)(1), this NOFA is categorically excluded from environmental review under the National Environmental Policy Act of 1969 (42 U.S.C. 4321).

(B) Federalism Impact

Executive Order 13132 (captioned “Federalism”) prohibits, to the extent practicable and permitted by law, an agency from promulgating a regulation that has federalism implications and either imposes substantial direct compliance costs on state and local governments and is not required by statute, or preempts state law, unless the relevant requirements of section 6 of the Executive Order are met. This NOFA does not have federalism implications and does not impose substantial direct compliance costs on state and local governments or preempt state law within the meaning of the Executive Order.

(C) Executive Order 12372, Intergovernmental Review of Federal Programs

Executive Order 12372 was issued to foster intergovernmental partnership and strengthen federalism by relying on state and local processes for the coordination and review of federal financial assistance and direct federal development. The Order allows each state to designate an entity to perform a state review function. The official listing of State Points of Contact (SPOC) for this review process can be found at http://www.whitehouse.gov/omb/grants/spoc.html. States not listed on the website have chosen not to participate in the intergovernmental review process and, therefore, do not have a SPOC. If your state has a SPOC, you should contact them to see if they are interested in reviewing your application prior to submission to HUD. Please make sure that you allow ample time for this review process when developing and submitting your applications. If your state does not have a SPOC, or your SPOC declines to review or is unable to review your application in a timely manner, you may send applications directly to HUD.

(D) Prohibition Against Lobbying Activities

Applicants for funding under this NOFA are subject to the provisions of section 319 of the Department of Interior and Related Agencies Appropriation Act for Fiscal Year 1991 (31 U.S.C. 1352) (the Byrd Amendment) and to the provisions of the Lobbying Disclosure Act of 1995 (Pub. L. 104-65; approved December 19, 1995).

The Byrd Amendment, which is implemented in regulations at 24 CFR part 87, prohibits applicants for federal contracts and grants from using appropriated funds to attempt to influence federal executive or legislative officers or employees in connection with obtaining such assistance, or with its extension, continuation, renewal, amendment, or modification. The Byrd Amendment applies to the funds that are the subject of this NOFA. Therefore, applicants must file a certification stating that they have not made and will not make any prohibited payments and, if any payments or agreement to make payments of non-appropriated funds for these purposes have been made, a form SF-LLL disclosing such payments must be submitted.

The Lobbying Disclosure Act of 1995 (Pub. L. 104-65; approved December 19, 1995), which repealed section 112 of the HUD Reform Act, requires all persons and entities who lobby covered executive or legislative branch officials to register with the Secretary of the Senate and the Clerk of the House of Representatives and file reports concerning their lobbying activities.

(E) Accountability in the Provision of HUD Assistance

Section 102 of the Department of Housing and Urban Development Reform Act of 1989 (HUD Reform Act) and the regulations in 24 CFR part 4, subpart A contain a number of provisions that are designed to ensure greater accountability and integrity in the provision of certain types of assistance administered by HUD. On January 14, 1992 (57 FR 1942), HUD published a notice that also provides information on the implementation of section 102. HUD will comply with the documentation, public access, and disclosure requirements of section 102 with regard to the assistance awarded under this NOFA, as follows:

(1) Documentation and Public Access Requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations at 24 CFR part 15;

(2) Disclosures. HUD will make available for public inspection for 5 years all applicant disclosure reports (HUD Form 2880) submitted in connection with this NOFA. Update reports (also reported on HUD Form 2880) will be made available along with the applicant disclosure reports, but in no case for a period less than three years. All reports, both applicant disclosures and updates, will be made available in accordance with the Freedom of Information Act (5 U.S.C. 552) and HUD's implementing regulations at 24 CFR part 15; and

(3) Publication of Recipients of HUD Funding. HUD's regulations at 24 CFR part 4 provide that HUD will publish a Notice in the Federal Register to notify the public of all decisions made by the Department to provide:

(i) Assistance subject to section 1092(a) of the HUD Reform Act; and/or

(ii) Assistance provided through grants or cooperative agreements on a discretionary (non-formula, non-demand) basis, but that is not provided on the basis of a competition.

(F) Applicant Debriefing

Beginning not less than 30 days after the awards for assistance are announced in the Federal Register, and for at least 120 days after awards for assistance are announced, HUD will provide any requesting applicant with a debriefing on their application. All requests for debriefing must be made by the principal investigator for the proposed study or by the authorized official whose signature appears on the SF-424 or his or her successor in office. Submit your request to Mr. Patrick Tewey at (202) 702-1796, extension 4098. Information provided during your debriefing will include, at a minimum, the final score you received for each Rating Factor, final evaluator comments for each Rating Factor, and the final assessment indicating the basis upon which assistance was provided or denied.

(G) Section 103 HUD Reform Act

HUD will comply with section 103 of the Department of Housing and Urban Development Reform Act of 1989 and HUD's implementing regulations in subpart B of 24 CFR part 4 with regard to the funding competition announced today. These requirements continue to apply until the announcement of the selection of successful applicants. HUD employees involved in the review of applications and in the making of funding decisions are limited by section 103 from providing advance information to any person (other than an authorized employee of HUD) concerning funding decisions, or from otherwise giving any applicant an unfair competitive advantage. Persons who apply for assistance in this competition should confine their inquiries to the subject areas permitted under section 103 and subpart B of 24 CFR part 4.

Applicants or employees who have ethics related questions should contact the HUD Ethics Law Division at (202) 708-3815. (This is not a toll-free number.)

(H) Paperwork Reduction Act Statement

The information collection requirements in this NOFA have been approved by OMB under the Paperwork Reduction Act of 1995 (44 U.S.C. 3501-3520). The OMB number is 2528-0227. Under the Paperwork Reduction Act, an agency may not conduct or sponsor, and a person is not required to respond to, a collection of information unless the collection displays a valid control number.

(I) Catalog of Federal Domestic Assistance Numbers

The Federal Domestic Assistance number for this program is 14.506.

IX. Corrections to Deficient Applications

After the application due date, HUD may not, consistent with its regulations in 24 CFR part 4, subpart B, consider any unsolicited information you, the applicant, may want to provide. HUD may contact you to clarify an item in your application or to correct technical deficiencies. HUD may not seek clarification of items or responses that improve the substantive quality of your response to any Rating Factors. In order not to unreasonably exclude applications from being rated and ranked, HUD may contact applicants to ensure proper completion of the application and will do so on a uniform basis for all applicants. Examples of curable (correctable) technical deficiencies include failure to submit the proper certifications or failure to submit an application that contains an original signature by an authorized official. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or federal holiday, your correction must be received by HUD on the next day that is not a Saturday, Sunday, or federal holiday.) If the deficiency is not corrected within this time period, HUD will reject the application as incomplete and it will not be considered for funding.

X. Authority

These cooperative agreements are authorized under sections 501 and 502 of the Housing and Urban Development Act of 1970.

Dated: December 5, 2002.
Harold Bunce,
Deputy Assistant Secretary for Economic Affairs.

Appendix

Checklist and Submission Table of Contents; Research on the Socioeconomic Change in Cities

The following checklist is provided to ensure you have submitted all required items to receive consideration for funding. You must assemble the application in the order shown below and note the corresponding page number where the response is located. You must include this checklist and submission table of contents with the proposal.

| page number
☐ Transmittal Letter (limited to one page) | cover page
☐ Checklist and submission table of contents (i.e., this page) | XXXXX
☐ Name of primary applicant and any sub-recipients, with contact information for each | XXXXX
☐ Abstract (limited to two pages) | XXXXX
Project narrative (limited to 25 pages total)
☐ 1. Applicant and organizational qualifications | XXXXX
☐ 2. The problem to be addressed | XXXXX
☐ 3. Technical study plan (study design, quality assurance mechanisms, and project management plan | XXXXX
☐ 4. Non-HUD resources to be applied (if any) | XXXXX
☐ 5. Statement on coordination, self-sufficiency, and sustainability | XXXXX
☐ Discussion of desired HUD resources, if applicable | XXXXX
☐ Conflict of interest disclosure | XXXXX
☐ Attachments, appendices, bibliography, or other relevant materials, if any (limited to 20 pages) | XXXXX
☐ Resumes (limited to three pages per individual) | XXXXX
☐ Indirect cost rate agreement, if available | XXXXX
☐ Application for Federal Assistance (Form HUD-424) | XXXXX
☐ Applicant Assurances and Certifications (Form HUD 424-B) | XXXXX
☐ Detailed Budget (Form HUD-424-CB) | XXXXX
☐ Detailed Budget Worksheet (Form HUD-424-CBW) | XXXXX
☐ Disclosure of Lobbying Activities, if required (Standard Form LLL) | XXXXX
☐ Disclosure/Update Report (Form HUD-2880) | XXXXX
☐ Acknowledgment of Application Receipt (Form HUD-2993) | XXXXX
☐ Client Comments and Suggestions (Form HUD-2994) Forms | XXXXX

Forms

Copies of required forms are attached. Instructions are included where applicable.

BILLING CODE 4210-62-P

[FR Doc. 03-7277 Filed 3-25-03; 8:45 am]

BILLING CODE 4210-62-C